DEPARTMENT OF HEALTH AND HUMAN SERVICES

Administration for Children and Families

[Program Announcement No. FV02-2005]

Family Violence Prevention and Services Program

AGENCY: Family and Youth Services Bureau, Administration on Children, Youth and Families, (ACYF), Administration for Children and Families, Department of Health and Human Services.

ACTION: Notice of the availability of funding to Native American Tribes (including Alaska Native Villages) and Tribal organizations for family violence prevention and services (FVPS).

SUMMARY: This announcement governs the proposed award of formula grants under the Family Violence Prevention and Services Act to Native American Tribes (including Alaska Native Villages) and Tribal organizations. The purpose of these grants is to assist Tribes in establishing, maintaining, and expanding programs and projects to prevent family violence and to provide immediate shelter and related assistance for victims of family violence and their dependents.

This announcement sets forth the application requirements, the application process, and other administrative and fiscal requirements for grants in fiscal year (FY) 2005. Grantees are to be mindful that although the expenditure period for grants is a two-year period, an application is required every year to provide continuity in the provision of services. (See General Grant Requirements For Tribes Or Tribal Organizations B. Expenditure Periods).

C.F.D.A. Number: 93.671, Family Violence Prevention and Services.

DATES: Applications for FY 2005 Tribes (including Alaska Native Villages) and Tribal Organizations grant awards meeting the criteria specified in this instruction should be received no later than July 1, 2005.

ADDRESSES: Applications should be sent to Family and Youth Services Bureau, Administration on Children, Youth and Families, Administration for Children and Families, Attn: William Riley, 330 C Street, SW., Room 2117, Washington, DC 20447.

FOR FURTHER INFORMATION CONTACT: Shena Williams at (202) 205-9532 or e-mail at swilliams@acf.hhs.gov; William D. Riley at (202) 401-5529 or e-mail at wriley@acf.hhs.gov; or Sunni Knight at (202) 401-5319 or e-mail at gknight@acf.hhs.gov.

SUPPLEMENTARY INFORMATION:

Annual Tribal Grantee Conference

Family Violence Prevention and Services Act (FVPSA) administrators should plan to attend the annual Tribal Grantee Conference. A subsequent Program Instruction and/or Information Memorandum will advise the Tribal FVPSA administrators of the date, time, and location of their grantee conference.

Client Confidentiality

FVPSA programs must establish or implement policies and protocols for maintaining the safety and confidentiality of the victims of domestic violence, sexual assault, and stalking. It is essential that the confidentiality of adult victims and their children receiving FVPSA services be protected. Consequently, when providing statistical data on program activities, individual identifiers of client records will not be used (section 303(a)(2)(E)).

Stop Family Violence Postal Stamp

The U.S. Postal Service was directed by the “Stamp Out Domestic Violence Act of 2001,” (the Act), Public Law 107-67, to make available a “semipostal” stamp to provide funding for domestic violence programs. Funds raised in connection with sales of the stamp, less reasonable costs, have been transferred to the U.S. Department of Health and Human Services during FY 2004 in accordance with the Act for support of services to children and youth affected by domestic violence. It is projected that additional stamp revenues will be received during FY 2005. Subsequent to the receipt of the stamp proceeds, a program announcement will be issued providing guidance and information on the process and requirements for awards to programs providing services to children and youth.

The Importance of Coordination of Services

The impact of family and intimate violence include physical injury and death of primary or secondary victims, psychological trauma, isolation from family and friends, harm to children witnessing or experiencing violence in homes in which the violence occurs, increased fear, reduced mobility and employability, homelessness, substance abuse, and a host of other health and related mental health consequences.

The physical and cultural obstacles existing in much of Indian country compound the basic dynamics of domestic violence. Barriers such as the isolation of vast rural areas, the concern for safety in isolated settings, and the transportation requirements over long distances, heighten the need for the coordination of the services through an often limited delivery system.

It is estimated that between 12 percent and 35 percent of injured women visiting emergency rooms are there because of battery. In a project intended to broaden the reach of the Native American domestic violence community, the Indian Health Service (IHS) and FVPSA have collaborated to oversee the development of domestic violence community projects. These projects are designed to develop improved health care responses to domestic violence and to facilitate collaboration between the local health care system and local American Indian and Alaskan Native domestic violence advocacy programs. In this effort, the IHS also is collaborating with representatives of Mending the Sacred Hoop, Cangleska, Inc., and the Family Violence Prevention Fund to provide training, technical assistance, and oversight to the pilot projects.

To help bring about a more effective response to the problem of domestic violence, the Department of Health and Human Services (HHS) urges Tribes And Tribal organizations, receiving funds under this grant announcement, to coordinate activities under this grant with other new and existing resources for the prevention of family and intimate violence.

Programmatic and Funding Information

A. Background

Title III of the Child Abuse Amendments of 1984, (Pub. L. 98-457, 42 U.S.C. 10401, et seq.) is entitled the Family Violence Prevention and Services Act (the Act). The Act was first implemented in FY 1986, was amended in 1992 by Pub. L. 102-295, in 1994 by Pub. L. 103-322, in 1996 by Pub. L. 104-235, and in 2000 by the Victims of Trafficking and Violence Protection Act (Pub. L. 106-386). The Act was most recently amended by the “Keeping Children and Families Safe Act of 2003” (Pub. L. 108-36).

The purpose of this legislation is to assist States and Tribes or Tribal organizations in supporting the establishment, maintenance, and expansion of programs and projects to prevent incidents of family violence and to provide immediate shelter and related assistance for victims of family violence and their dependents.

During FY 2004, 224 grants were made to States and Tribes or Tribal organizations. The Department also made 53 family violence prevention grant awards to non-profit State domestic violence coalitions.

In addition, the Department supports the Domestic Violence Resource Center Network (DVRN). The DVRN consists of the National Resource Center for Domestic Violence (NRC) and four Special Issue Resource Centers (SIRCs). The SIRCs are the Battered Women's Justice Project, the Resource Center on Child Custody and Protection, the Resource Center for the Elimination of Domestic Violence Against Native Women (Sacred Circle), and the Health Resource Center on Domestic Violence. The purpose of the NRC and the SIRCs is to provide resource information, training, and technical assistance to Federal, State, and Native American agencies, local domestic violence prevention programs, and other professionals who provide services to victims of domestic violence.

In February, 1996, the Department funded the National Domestic Violence Hotline to ensure that every woman has access to information and emergency assistance wherever and whenever she needs it. The NDVH is a 24-hour, toll-free service that provides crisis assistance, counseling, and local shelter referrals to women across the country. Hotline counselors also are available for non-English speaking persons and for people who are hearing-impaired. The hotline number is 1-800-799-SAFE; the TDY number for the hearing impaired is 1-800-787-3224. As of August 31, 2003, the National Domestic Violence Hotline had answered over one million calls.

B. Funds Available

For FY 2005, the Department of Health and Human Services will make available for grants to designated State agencies seventy percent of the amount appropriated under section 310(a)(1) of the Family Violence Prevention and Services Act which is not reserved under section 310(a)(2). In this separate announcement, the Department will allocate 10 percent of the foregoing appropriation to the Tribes and Tribal organizations for the establishment and operation of shelters, safe houses, and the provision of related services. The Department also plans to make 10 percent of the foregoing appropriation available to State domestic violence coalitions to continue their work within the domestic violence community by providing technical assistance and training, and advocacy services among other activities with local domestic violence programs and to encourage appropriate responses to domestic violence within the States.

Five percent of the amount appropriated under section 310(a)(1) of the Family Violence Prevention and Services Act which is not reserved under section 310(a)(2) will be available in FY 2005 to continue the support for the National Resource Center and the four Special Issue Resource Centers. Additional funds appropriated under the FVPSA will be used to support other activities, including training and technical assistance, collaborative projects with advocacy organizations and service providers, data collection efforts, public education activities, research and other demonstration projects, as well as the ongoing operation of the National Domestic Violence Hotline.

C. Native American Tribal Allocations

Native American Tribes and Tribal organizations are eligible for funding under this program if they meet the definition of “Indian tribe” or “tribal organization” at 25 U.S.C. 450b, and if they are able to demonstrate their capacity to carry out a family violence prevention and services programs.

Any Tribe that believes it meets the eligibility criteria should provide supportive documentation in its application and a request for inclusion on the list of eligible tribes. (See Application Requirements for Tribes or Tribal Organizations.)

In computing Tribal allocations, we will use the latest available population figures from the Census Bureau. Where Census Bureau data are unavailable, we will use figures from the BIA Indian Population and Labor Force Report.

Because section 304 of the Act specifies a minimum base amount for State allocations, we have set a base amount for Tribal allocations. Since FY 1986, we have found, in practice, that the establishment of a base amount has facilitated our efforts to make a fair and equitable distribution of limited grant funds.

Due to the expanded interest in the prevention of family violence and in the provision of services to victims of family violence and their dependents, we have received an increasing number of tribal applications over the past several years. In order to ensure the continuance of an equitable distribution of family violence prevention and services funding in response to the increased number of tribes that apply, we have adjusted the funding formula for the allocation of family violence funds.

Tribes that meet the application requirements and whose reservation and surrounding Tribal Trust Lands” population is:

• Less than or equal to 1,500 will receive a minimum base amount of $1,500;

• Greater than 1,500 but less than 3,001 will receive a minimum base amount of $3,000;

• Between 3,001 and 4,000 will receive a minimum base amount of $4,000; and,

• Between 4,001 and 5,000 will receive a minimum base amount of $5,000.

The minimum base amounts are computed in relation to the Tribe's population and the progression of an additional $1,000 per 1,000 persons in the population range continues until the Tribe's population reaches 50,000.

Tribes with a population of 50,000 to l00,000 will receive a minimum of $50,000; and Tribes with a population of 100,001 to 150,000 will receive a minimum of $100,000.

Once the base amounts have been distributed to the Tribes that have applied for family violence funding, the ratio of the Tribe's population to the total population of all the applicant Tribes is then considered in allocating the remainder of the funds. We have accounted for the variance in actual population and scope of the Family Violence and Services Programs with the distribution of a proportional amount plus a base amount to the Tribes. Under the previous allocation plan, we did not have a method by which to consider the variance in tribal census counts. As in previous years, Tribes are encouraged to apply as consortia for the family violence prevention and services funding.

General Grant Requirements for Tribes or Tribal Organizations

A. Definitions

Tribes and Tribal organizations should use the following definitions in carrying out their programs. The definitions are found in section 320 of the Family Violence Prevention and Services Act.

(1) Family Violence: Any act, or threatened act, of violence, including any forceful detention of an individual, which (a) results or threatens to result in physical injury and (b) is committed by a person against another individual (including an elderly person) to whom such person is, or was, related by blood or marriage, or otherwise legally related, or with whom such person is, or was, lawfully residing.

(2) Indian Tribe and Tribal organization: Have the same meanings given such terms in section 450b of Title 25.

(3) Shelter: The provision of temporary refuge and related assistance in compliance with applicable State law and regulation governing the provision, on a regular basis, which includes shelter, safe homes, meals, and related assistance to victims of family violence and their dependents.

(4) Related assistance: The provision of direct assistance to victims of family violence and their dependents for the purpose of preventing further violence, helping such victims to gain access to civil and criminal courts and other community services, facilitating the efforts of such victims to make decisions concerning their lives in the interest of safety, and assisting such victims in healing from the effects of the violence. Related assistance includes:

(a) Prevention services such as outreach and prevention services for victims and their children, assistance to children who witness domestic violence, employment training, parenting, and other educational services for victims and their children, preventive health services within domestic violence programs (including services promoting nutrition, disease prevention, exercise, and prevention of substance abuse), domestic violence prevention programs for school age children, family violence public awareness campaigns, and violence prevention counseling services to abusers;

(b) Counseling with respect to family violence, counseling or other supportive services by peers individually or in groups, and referral to community social services;

(c) Transportation, technical assistance with respect to obtaining financial assistance under Federal and State programs, and referrals for appropriate health-care services (including alcohol and drug abuse treatment), but shall not include reimbursement for any health-care services;

(d) Legal advocacy to provide victims with information and assistance through the civil and criminal courts, and legal assistance; or

(e) Children's counseling and support services, and child care services for children who are victims of family violence or the dependents of such victims, and children who witness domestic violence.

B. Expenditure Periods

The FVPSA funds may be used for expenditures on and after October 1 of each fiscal year for which they are granted, and will be available for expenditure through September 30 of the following fiscal year, i.e., FY 2005 funds may be used for expenditures from October 1, 2004 through September 30, 2006.

Reallotted funds, if any, are available for expenditure until the end of the fiscal year following the fiscal year that the funds became available for reallotment. FY 2005 grant funds which are made available to Tribes and Tribal organizations through reallotment must be expended by the grantee no later than September 30, 2006.

C. Reporting Requirements

A performance report must be filed with the Department describing the activities carried out, and including an assessment of the effectiveness of those activities in achieving the purposes of the grant. A section of this performance report must be completed by each grantee or sub-grantee that performed the direct services contemplated in the application certifying performance of such services. Consortia grantees should compile performance reports into a comprehensive report for submission.

The Performance Report should include the following data elements:

Funding—The total amount of the FVPSA grant funds awarded; the percentage of funding used for shelters, and the percentage of funding used for related services and assistance.

Shelters—The number of shelters and shelter programs (safe homes/motels, etc.) assisted by FVPSA program funding. Data elements should include:

• The number of shelters.

• The number of women sheltered.

• The number of young children sheltered (birth-12 years of age).

• The number of teenagers and young adults (13-17 years of age).

• The number of men sheltered.

• The number of the elderly serviced.

• The average length of stay.

• The number of women, children, teens, and others who were turned away because shelter was unavailable.

• The number of women, children, teens, and others who were referred to other shelters due to lack of space.

Types of individuals served (including special populations)—Record information by numbers and percentages against the total population served. Individuals and special populations served should include:

• The elderly.

• Individuals with physical challenges.

• And other special needs populations.

Related services and assistance—List the types of related services and assistance provided to victims and their family members by indicating the number of women, children, and men that have received services. Services and assistance may include but are not limited to the following:

• Individual counseling.

• Services to Children.

• Crisis intervention/hotline.

• Information and referral.

• Batterers support services.

• Legal advocacy services.

• Transportation.

• Services to teenagers.

• Child Care.

• Training and technical assistance.

• Housing advocacy.

• Other innovative program activities.

Volunteers—List the total number of volunteers and hours worked.

Identified Abuse—Indicate (if available) the number of women, children, and men who were identified as victims of physical, sexual, and/or emotional abuse.

Service referrals—List the number of women, children, and men referred for the following services: (Note: If the individual was identified as a batterer please indicate.)

• Physical abuse.

• Alcohol abuse.

• Drug abuse.

• Batterer intervention services.

• Child abuse.

• Witnessed abuse.

• Emergency medical intervention.

• Law enforcement intervention.

• The performance report should include narratives of success stories about services provided and the positive impact on the lives of children and families. Examples may include the following: An explanation of the activities carried out including an assessment of the major activities supported by the family violence funds; what particular priorities within the Tribe or Tribal organization were addressed; and what special emphases were placed on these activities;

• A description of the specific services and facilities that your program funded, contracted with, or otherwise used in the implementation of your program, e.g., shelters, safe houses, related assistance, programs for batterers;

• An assessment of the effectiveness of the direct service activities contemplated in the application;

• A description of how the needs of under-served populations, including those persons geographically isolated were addressed; and

• A description and assessment of the prevention activities supported during the program year, e.g., community education events, and public awareness efforts.

Performance reports for Tribes and Tribal organizations are due on an annual basis at the end of the calendar year (December 29). Performance reports should be sent to Family and Youth Services Bureau, Administration on Children, Youth and Families, Administration for Children and Families, Attn: William Riley, 330 C Street, SW., Room 2117, Washington, DC 20447.

D. Financial Status Reports

All grantees are reminded that annual Financial Status Reports (Standard Form SF-269A) are due 90 days after the end of each Federal fiscal year. The first SF-269A is due December 29, 2005. The final SF-269A is due December 29, 2006. Completed reports should be sent to: Gregory Kenyon, Division of Mandatory Grants, Office of Grants Management, Office of Administration, Administration for Children and Families, 370 L'Enfant Promenade SW., Washington, DC 20447. Standard Form 269A can be found at: http://www.whitehouse.gov/omb/grants/grantsforms.html.

Application Requirements for Tribes and Tribal Organizations

A. Eligibility

As described above, Tribes and Tribal organizations are eligible for funding under this program if they meet the definition “Indian tribe” or “tribal organization” set forth in section 450B of Title 25 and if they are able to demonstrate their capacity to carry out a family violence prevention and services program.

Any Tribe or Tribal organization that believes it meets the eligibility criteria and should be included in the list of eligible tribes should provide supportive documentation and a request for inclusion in its application. (See Application Content Requirements below.)

As in previous years, Tribes may apply singularly or as a consortium. In addition, a non-profit private organization, approved by a Tribe for the operation of a family violence shelter or program on a reservation is eligible for funding.

Additional Information on Eligibility

All applicants must have a Dun & Bradstreet Universal Numbering System (DUNS) number. On June 27, 2003, the Office of Management and Budget published in the Federal Register a new Federal policy applicable to all Federal grant applicants. The policy requires all Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement, and block grant programs, submitted on or after October 1, 2003.

Please ensure that your organization has a DUNS number. You may acquire a DUNS number at no cost by calling the dedicated toll-free DUNS number request line on 1-866-705-5711 or you may request a number on-line at http://www.dnb.com.

B. Approval/Disapproval of a Tribal or Tribal Organization Application

The Secretary will approve any application that meets the requirements of the Act and this announcement The Secretary will not disapprove an application except after reasonable notice of the Secretary's intention to disapprove has been provided to the applicant and after a 6-month period providing an opportunity for applicant to correct any deficiencies.

The notice of intention to disapprove will be provided to the applicant within 45 days of the date of the application.

C. Application Content Requirements

The Paperwork Reduction Act of 1995 (Pub. L. 104-13)

Public reporting burden for this collection of information is estimated to average 6 hours per response, including the time for reviewing instructions, gathering and maintaining the data needed and reviewing the collection information.

The project description is approved under OMB control number 0970-0280, which expires October 31, 2005. An agency may not conduct or sponsor, and a person is not required to respond to, a collection of information unless it displays a currently valid OMB control number.

The application from the Tribe or Tribal organization must be signed by the Chief Executive Officer or Tribal Chairperson of the applicant organization.

(1) The name of the organization or agency and the Chief Program Official designated as responsible for administering funds under the Act and coordinating related programs, and the name, telephone number, and fax number, if available, of a contact person in the designated organization or agency.

(2) A copy of a current resolution stating that the designated organization or agency has the authority to submit an application on behalf of the individuals in the Tribe(s) and to administer programs and activities funded under this program (section 303(b)(2)).

(3) A description of the procedures designed to involve knowledgeable individuals and interested organizations in providing services under the Act (section 303(b)(2)). For example, knowledgeable individuals and interested organizations may include: Tribal officials or social services staff involved in child abuse or family violence prevention, Tribal law enforcement officials, representatives of State coalitions against domestic violence, and operators of family violence shelters and service programs.

(4) A description of the applicant's operation of and/or capacity to carry out a family violence prevention and services program. This might be demonstrated in ways such as the following:

(a) The current operation of a shelter, safe house, or family violence prevention program;

(b) The establishment of joint or collaborative service agreements with a local public agency or a private non-profit agency for the operation of family violence prevention activities or services; or

(c) The operation of social services programs as evidenced by receipt of “638” contracts with the Bureau of Indian Affairs (BIA); Title II Indian Child Welfare grants from the BIA; Child Welfare Services grants under Title IV-B of the Social Security Act; or Family Preservation and Family Support grants under title IV-B of the Social Security Act.

(5) A description of the services to be provided, how the applicant organization plans to use the grant funds to provide the direct services, to whom the services will be provided, and the expected results of the services.

(6) Documentation of the procedures that assure the confidentiality of records pertaining to any individual provided family violence prevention or treatment services by any program assisted under the Act (section 303(a)(2)(E)).

(7) The EIN number of the applicant organization submitting the application.

D. Each Application Must Contain the Following Assurances

(a) That not less than 70 percent of the funds shall be used for immediate shelter and related assistance for victims of family violence and their dependents and not less than 25% of the funds distributed shall be used to provide related assistance (section 303(g)).

(b) That any grants made to an entity other than a State or Tribe will meet the matching requirements in section 303(f), i.e., not less than 20 percent of the total funds provided for a project under Chapter 110 of Title 42 of the U.S. Code with respect to an existing program, and with respect to an entity intending to operate a new program under this title, not less than 35 percent. The local share will be cash or in-kind; and the local share will not include any Federal funds provided under any authority other than this chapter (section 303(f)).

(c) That grant funds made available under the Act will not be used as direct payment to any victim or dependent of a victim of family violence (section 303(d)).

(d) That no income eligibility standard will be imposed on individuals receiving assistance or services supported with funds appropriated to carry out the Act (section 303(e)).

(e) That the address or location of any shelter or facility assisted under the Act will not be made public, except with the written authorization of the person or persons responsible for the operations of such shelter (section 303(a)(2)(E)).

(f) That a law or procedure has been implemented for the eviction of an abusing spouse from a shared household (section 303(a)(2)(F)).

(g) That all grants, programs or other activities funded by the State in whole or in part with funds made available under the FVPSA will prohibit discrimination on the basis of age, handicap, sex, race, color, national origin or religion (section 307).

(h) That the applicant will comply with the applicable Departmental recordkeeping and reporting requirements and general requirements for the administration of grants under 45 CFR Part 92.

Other Information

A. Notification Under Executive Order 12372

The review and comment provisions of the Executive Order and Part 100 do not apply. Federally-recognized Tribes are exempt from all provisions and requirements of E.O. 12372.

B. Administrative and National Policy Requirements

Grantees are subject to the requirements in 45 CFR part 74 (non-governmental) and 45 CFR Part 92 (governmental).

Direct Federal grants, sub-award funds, or contracts under this Family Support Initiative 2005 program shall not be used to support inherently religious activities such as religious instruction, worship, or proselytization. Therefore, organizations must take steps to separate, in time or location, their inherently religious activities from the services funded under this Program. Regulations pertaining to the Equal Treatment For Faith-Based Organizations, which includes the prohibition against Federal funding of inherently religious activities, can be found at either 45 CFR 87.1 or the HHS Web site at: http://www.os.dhhs.gov/fbci/waisgate21.pdf.

C. Required Certifications

All applications must submit or comply with the required certifications found in the Appendices as follows:

Anti-Lobbying Certification and Disclosure Form must be signed and submitted with the application (See Appendix A): Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants should sign and return the certification with their application.

Certification Regarding Environmental Tobacco Smoke (See Appendix B): Applicants must also understand they will be held accountable for the smoking prohibition included within Pub. L. 103-227, Title XII Environmental Tobacco Smoke (also known as the PRO-KIDS Act of 1994). A copy of the Federal Register notice which implements the smoking prohibition is included with forms. By signing and submitting the application, applicants are providing the certification and need not mail back the certification with the application.

These certifications also may be found at: http://www.acf.hhs.gov/programs/ofs/forms.htm.

Date: May 24, 2005.
Joan E. Ohl,
Commissioner, Administration on Children, Youth and Families.

Appendices: Required Certifications

A. Certification Regarding Lobbying

B. Certification Regarding Environmental Tobacco Smoke

Appendix A—Certification Regarding Lobbying

Certification for Contracts, Grants, Loans, and Cooperative Agreements

The undersigned certifies, to the best of his or her knowledge and belief, that:

(1) No Federal appropriated funds have been paid or will be paid, by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement is a prerequisite for making or entering into this transaction imposed by section 1352, title 31, U.S. Code. Any person who fails to file the required statement shall be subject to a civil penalty of not less than $10,000 and not more than $100,000 for each such failure.

Signature

Title

Organization

Appendix B—Certification Regarding Environmental Tobacco Smoke

Public Law 103227, Part C Environmental Tobacco Smoke, also known as the Pro Children Act of 1994 (Act), requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

[FR Doc. 05-10782 Filed 5-31-05; 8:45 am]

BILLING CODE 4184-01-P